DEPARTMENT OF VETERANS AFFAIRS

[OMB Control No. 2900-0353]

Agency Information Collection (Certification of Lessons Completed): Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before February 16, 2012.

ADDRESSES: Submit written comments on the collection of information through www.Regulations.gov or to VA's OMB Desk Officer, OMB Human Resources and Housing Branch, New Executive Office Building, Room 10235, Washington, DC 20503 (202) 395-7316. Please refer to “OMB Control No. 2900-0353” in any correspondence.

FOR FURTHER INFORMATION CONTACT: Denise McLamb, Enterprise Records Service (005R1B), Department of Veterans Affairs, 810 Vermont Avenue NW., Washington, DC 20420, (202) 632-7479, FAX (202) 273-0487 or email denise.mclamb@va.gov. Please refer to “OMB Control No. 2900-0353.”

SUPPLEMENTARY INFORMATION:

Title: Certification of Lessons Completed, VA Forms 22-6553b and 22-6553b-1.

OMB Control Number: 2900-0353.

Type of Review: Extension of a currently approved collection.

Abstract: Students enrolled in a correspondence school complete VA Forms 22-6553b and 22-6553b-1 to report the number of correspondence course lessons completed and forward the forms to the correspondence school for certification. School official certifies the number of lessons serviced and submits the forms to VA for processing. Benefits are payable based on the data provided on the form. Benefits are not payable when students interrupt, discontinue, or complete the training. VA uses the data collected to determine the amount of benefit is payable.

An agency may not conduct or sponsor, and a person is not required to respond to a collection of information unless it displays a currently valid OMB control number. The Federal Register Notice with a 60-day comment period soliciting comments on this collection of information was published on November 1, 2011, at pages 67560-67561.

Affected Public: Individuals or households, and Business or other for-profit.

Estimated Annual Burden: 411 hours.

Estimated Average Burden per Respondent: 10 minutes.

Frequency of Response: Quarterly.

Estimated Number of Respondents: 821.

Number of Responses Annually: 2,463.

Dated: January 11, 2012.
By direction of the Secretary.
Denise McLamb,
Program Analyst, Enterprise Records Service.

[FR Doc. 2012-668 Filed 1-13-12; 8:45 am]

BILLING CODE 8320-01-P